DEPARTMENT OF HEALTH AND HUMAN SERVICES

Centers for Disease Control and Prevention

Disease, Disability, and Injury Prevention and Control Special Emphasis Panel (SEP): Data Coordinating Center for Autism and Other Development Disabilities Research, Program Announcement Number (PA) DD09-002; Epidemiologic and Surveillance and Epidemiologic Research of Duchenne and Becker Muscular Dystrophy, PA DD06-002

In accordance with Section 10(a)(2) of the Federal Advisory Committee Act (Pub. L. 92-463), the Centers for Disease Control and Prevention (CDC) announces the aforementioned meeting.

Time and Date: 1 p.m.-4 p.m., March 26, 2009 (Closed).

Place: Teleconference.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of the application received in response to “Data Coordinating Center for Autism and Other Development Disabilities Research, PA DD09-002; and the supplements received for Epidemiologic and Surveillance and Epidemiologic Research of Duchenne and Becker Muscular Dystrophy, PA DD06-002.”

For Further Information Contact: Geneva L. Cashaw, Designated Federal Official, CDC, 4770 Buford Highway, NE., Mailstop K-92, Telephone (770) 488-8390.

The Director, Management Analysis and Services Office, has been delegated the authority to sign Federal Register notices pertaining to announcements of meetings and other committee management activities, for both CDC and the Agency for Toxic Substances and Disease Registry.

Dated: March 4, 2009.
Elaine L. Baker,
Director, Management Analysis and Services Office, Centers for Disease Control and Prevention.

[FR Doc. E9-5117 Filed 3-10-09; 8:45 am]

BILLING CODE 4163-18-P